NATIONAL SCIENCE FOUNDATION

Advisory Committee for Mathematical and Physical Sciences; Notice of Meeting

In accordance with the Federal Advisory Committee Act (Pub., L. 92-463, as amended), the National Science Foundation announces the following meeting:

Name: Advisory Committee for Mathematical and Physical Sciences (#66) (Virtual).

Date/Time: February 5, 2016: 12:30 p.m. to 5:30 p.m.

Place: National Science Foundation 4201 Wilson Blvd., Arlington, VA 22230. Virtual Meeting. Join through: https://nsf.webex.com/nsf/j.php?MTID=mc0893a5ba5e35caef40db251e77bc81c.

Type of Meeting: Open.

Contact Person: Eduardo Misawa, National Science Foundation, 4201 Wilson Boulevard, Suite 505, Arlington, Virginia 22230; Telephone: 703/292-8300

Purpose of Meeting: To provide advice, recommendations and counsel on major goals and policies pertaining to mathematical and physical sciences programs and activities.

Agenda

Friday, February 5th, 2016 12:30 p.m.-5:30 p.m.

12:30 p.m.-12:45 p.m. Meeting opening, FACA briefing and approval of November meeting minutes

12:45 p.m.-1:45 p.m. MPS updates (FY 16 budget, science highlights)

1:45 p.m.-2:45 p.m. NSF Office of Legislative and Public Affairs (OLPA) update

3:00 p.m.-3:30 p.m. Briefing on National Center for Science and Engineering Statistics

3:30 p.m.-4:30 p.m. Graduate Student Training

4:30 p.m.-5:30 p.m. Early Career Investigators

5:30 pm Adjourn

Dated: January 20, 2016.
Crystal Robinson,
Committee Management Officer.

[FR Doc. 2016-01434 Filed 1-25-16; 8:45 am]

BILLING CODE 7555-01-P